DEPARTMENT OF ENERGY

Federal Energy Regulatory Commission

[Docket No. AD22-9-000]

New England Winter Gas-Electric Forum; Supplemental Notice of New England Winter Gas-Electric Forum

As announced in the Notice of Forum issued in the above-referenced proceeding on May 19, 2022, the Federal Energy Regulatory Commission (Commission) will convene a Commissioner-led forum on Thursday, September 8, 2022, from approximately 9 a.m. to 5 p.m. Eastern Time, to discuss the electricity and natural gas challenges facing the New England Region. A preliminary agenda for this forum is attached. The Commission will issue a further supplemental notice with a full agenda and the confirmed panelists prior to the forum. The forum will be open to the public and held in the Emerald I & II Ballroom at the DoubleTree by Hilton Burlington Vermont, 870 Williston Rd, South Burlington, VT, 05403.

The purpose of the forum is to bring together stakeholders in New England to discuss the challenges faced historically during New England winters and discuss the stakeholders' differing expectations of challenges for future winters. The objectives of the forum are to achieve greater consensus or agreement among stakeholders in defining the electric and natural gas system challenges in New England and identify what, if any, steps are needed to better understand those challenges before identifying solutions.

While the forum is not for the purpose of discussing any specific matters before the Commission, some forum discussions may involve issues raised in proceedings that are currently pending before the Commission. These proceedings include, but are not limited to:

Constellation Mystic Power LLC | Docket Nos. ER18-1639-000, ER18-1639-014, ER18-1639-015, ER18-1639-017, ER22-1192-000.
ISO New England Inc | Docket Nos. ER19-1428-000, ER19-1428-001, ER19-1428-002, ER19-1428-003, ER19-1428-004.
RENEW Northeast and American Clean Power Association vs. ISO New England Inc | Docket No. ER22-42-000.

Only Commissioners and panelists will participate in the panel discussions. The forum will be open to the public for listening and observing, and written comments may be submitted in Docket No. AD22-9-000.

Registration for in-person attendance will be required, and there is no fee for attendance. A link to attendee registration will be available on the New England Winter Gas-Electric Forum event page. Due to space constraints, seating for this event will be limited and registrants that get a confirmed space will be contacted via email. Only confirmed registrants can be admitted to the forum given the maximum occupancy limit at the venue (as required by fire and building safety code). Therefore, the Commission encourages members of the public who wish to attend this event in person to register at their earliest convenience. Online registration will be open, as long as attendance capacity is available, until the day before the forum (September 7). Once registration has reached capacity, registration will be closed. However, those interested in attending after capacity has been reached can join a waiting list (using the same registration link) and be notified if space becomes available. Those who are unable to attend in person may watch the free webcast.

The webcast will allow persons to listen and observe the forum remotely but not participate. Information on this forum, including a link to the webcast, will be posted prior to the event on this forum's event page on the Commission's website. A recording of the webcast will be made available after the forum in the same location on the Calendar of Events. The forum will be transcribed. Transcripts of the forum will be available for a fee from Ace-Federal Reporters, Inc. (202-347-3700).

Individuals interested in participating as panelists should submit a self-nomination email by 5 p.m. Eastern time on August 3, 2022, to Panelist_NewEnglandForum@ferc.gov. The self-nominations should have “Panelist Self-Nomination” in the subject line and include the panelist's name, photograph, contact information, organizational affiliation, one-paragraph biography, and what panels the self-nominated panelist proposes to speak on.

Additionally, please note that the Commission will be implementing health and safety restrictions, as appropriate, associated with the Centers for Disease Control and Prevention (CDC) COVID Community Level mitigations. This may include requiring all participants to wear cloth face covers or masks as well as further limiting venue occupancy if Chittenden County is designated as having a high-community level in data expected to be released on the evening of Thursday, September 1. The CDC Community Level tracker may be found at the CDC COVID Data Tracker site.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this forum, please contact NewEnglandForum@ferc.gov for technical or logistical questions.

Dated: July 21, 2022.
Debbie-Anne A. Reese,
Deputy Secretary.

[FR Doc. 2022-16113 Filed 7-26-22; 8:45 am]

BILLING CODE 6717-01-P